ENVIRONMENTAL PROTECTION AGENCY

[OPP-50886; FRL-6781-3]

Issuance of an Experimental Use Permit

AGENCY: Environmental Protection Agency (EPA).

ACTION: Notice.

SUMMARY: EPA has granted an experimental use permit (EUP) to the following pesticide applicant. An EUP permits use of a pesticide for experimental or research purposes only in accordance with the limitations in the permit.

FOR FURTHER INFORMATION CONTACT: By mail: Cynthia Giles-Parker, Registration Division (7505C), Office of Pesticide Programs, Environmental Protection Agency, 1200 Pennsylvania Ave., NW., Washington, DC 20460. Office location, telephone number, and e-mail address: 1921 Jefferson Davis Hwy., Rm. 249, Crystal Mall #2, Arlington, VA; (703) 305-7740; e-mail address: giles-parker.cynthia@epa.gov.

SUPPLEMENTARY INFORMATION:

I. General Information

A. Does this Action Apply to Me?

This action is directed to the public in general. Although this action may be of particular interest to those persons who conduct or sponsor research on pesticides, the Agency has not attempted to describe all the specific entities that may be affected by this action. If you have any questions regarding the information in this action, consult the designated contact person listed for the individual EUP.

B. How Can I Get Additional Information, Including Copies of this Document and Other Related Documents?

You may obtain electronic copies of this document, and certain other related documents that might be available electronically, from the EPA Internet Home Page at http://www.epa.gov. To access this document, on the Home Page select “Laws and Regulations,” “Regulations and Proposed Rules,” and then look up the entry for this document under the “Federal Register—Environmental Documents.” You can also go directly to the Federal Register listings at http://www.epa.gov/fedrgstr.

II. EUP

EPA has issued the following EUP:

71049-EUP-1 and 71049-EUP-2. Issuance. KIM-C1, LLC, 6333 East Liberty Avenue, Fresno, California 93727. This EUP allows the use of 61.78 (1st year), 62.74 (2nd year), 63.11 (3rd year) pounds of the plant growth regulator CPPU [N-(2-chloro-4-pyridinyl)-N′-phenyl urea] on 4,185 (1st year), 4,250 (2nd year), 4,275 (3rd year) acres of almond, apple, blueberry, cranberry, fig, grapes, kiwifruit, olive, pear, and plums (fresh) to evaluate the control of fruit size and/or yield. The program is authorized only in the States of California, Florida, Georgia, Michigan, and Washington. The EUP is effective from April 1, 2001 to April 1, 2004. A tolerance has been established for residues of the active ingredient in or on almond, apple, blueberry, cranberry, fig, grapes, kiwifruit, olive, pear, plums (fresh).

Persons wishing to review this EUP are referred to the designated contact person. Inquiries concerning this permit should be directed to the person cited above. It is suggested that interested persons call before visiting the EPA office, so that the appropriate file may be made available for inspection purposes from 8 a.m. to 4 p.m., Monday through Friday, excluding legal holidays.

Authority: 7 U.S.C. 136.

List of Subjects

Environmental protection, Experimental use permits.

Dated: May 16, 2001.
James Jones,
Director, Registration Division, Office of Pesticide Programs.

[FR Doc. 01-13279 Filed 5-29-01; 8:45 am]

BILLING CODE 6560-50-S